SECURITIES AND EXCHANGE COMMISSION

[File No. 500-1]

In the Matter of Imperial Plantation Corporation; Order of Suspension of Trading

August 17, 2016.

It appears to the Securities and Exchange Commission that there is a lack of current and accurate information concerning the securities of Imperial Plantation Corporation because of questions regarding the accuracy of publicly available information about the company's business transactions and securities, including inconsistent disclosures about whether Imperial Plantation Corporation received $1 million in a private placement of one billion shares of its stock, and inaccurate disclosure that it cancelled the one billion shares when the shares remained outstanding as of June 22, 2016. Imperial Plantation Corporation (CIK No. 0001542934), is a Nevada corporation with its principal place of business listed as Tempe, Arizona with stock quoted on OTC Link (previously, “Pink Sheets”) operated by OTC Markets Group, Inc. under the ticker symbol IMPC.

The Commission is of the opinion that the public interest and the protection of investors require a suspension of trading in the securities of the above-listed company.

THEREFORE, IT IS ORDERED, pursuant to Section 12(k) of the Securities Exchange Act of 1934, that trading in the securities of the above-listed company is suspended for the period from 9:30 a.m. EDT, August 17, 2016, through 11:59 p.m. EDT, on August 30, 2016.

By the Commission.
Jill M. Peterson,
Assistant Secretary.

[FR Doc. 2016-19945 Filed 8-17-16; 4:15 pm]

BILLING CODE 8011-01-P